DEPARTMENT OF ENERGY

Federal Energy Regulatory Commission

[Docket No. RM05-30-000]

Rules Concerning Certification of Electronic Reliability Organization; and Procedures for the Establishment, Approval and Enforcement of Electric Reliability Standards; Notice of Availability of Filing

November 2, 2006.

Take notice that, on October 23, 2006, the Commission received the 2006 Long-Term Reliability Assessment prepared by the North American Electric Reliability Council (NERC).

Section 39.11 of the Commission's regulations provides that the Electric Reliability Organization (ERO) shall conduct assessments of, among other things, the adequacy of the Bulk-Power System in North America and report its findings to the Commission, the Secretary of Energy, each Regional Entity, and each Regional Advisory Body annually or more frequently if so ordered by the Commission. According to NERC, the 2006 Long-Term Reliability Assessment is the first assessment filed by NERC in its capacity as the ERO.

This assessment is filed under Docket No. RM05-30-000 and is accessible online at http://www.ferc.gov, using the “eLibrary” link and is available for review in the Commission's Public Reference Room. For assistance with any FERC Online service, please e-mail FERCOnlineSupport@ferc.gov, or call (866) 208-3676 (toll free). For TTY, call (202) 502-8659.

Magalie R. Salas,
Secretary.

[FR Doc. E6-18928 Filed 11-8-06; 8:45 am]

BILLING CODE 6717-01-P